DEPARTMENT OF TRANSPORTATION

Federal Aviation Administration

Notice of Final Action of Waiver with Respect to Land; Pellston Regional Airport, Pellston, MI

AGENCY: Federal Aviation Administration (FAA), DOT.

ACTION: Notice.

SUMMARY: The FAA is providing notice of a release of Federal obligations for 0.60 acres of land at Pellston Regional Airport, Pellston, Michigan.

FOR FURTHER INFORMATION CONTACT: Alex Erskine, Program Manager, Federal Aviation Administration, Detroit Airports District Office, 11677 S Wayne Rd., Romulus, MI 48174-1412. Telephone Number: (734) 229-2900/FAX Number: (734) 229-2950.

SUPPLEMENTARY INFORMATION: Emmet County, Airport Sponsor of the Pellston Regional Airport has requested a release of all FAA obligations for 0.60 acres of property that was previously owned by the airport. The subject property, identified as Parcels 29 and 30, was sold without FAA authorization in 2004.

Parcels 29 and 30 were acquired by the Airport Sponsor on August 10, 1972 and were funded in part under Airport Development Aid Program (ADAP) grant number 8-26-0076-01. The property was sold to the Village of Pellston and the parcels were combined with other adjacent property and a former railroad right-of-way to create a 3.14 acre parcel that was subsequently developed for a 16,960 square foot professional building. Emmet County has obtained an avigation easement over the portions of these parcels that are located in the Runway Protection Zone (RPZ). The FAA has confirmed that the Airport Sponsor has received fair market value for the sale of Parcel 29 and 30.

The FAA has confirmed the disposition of proceeds from the sale of the airport property were in accordance with title 49 of United States Code, section 47107(c)(2)(B) and FAA's Policy and Procedures Concerning the Use of Airport Revenue, published in the Federal Register on February 16, 1999 (64 FR 7696).

In accordance with section 125 of The Wendell H. Ford Aviation Investment and Reform Act for the 21st Century (AIR-21) the FAA is providing notice that the FAA is releasing the subject airport property described below at the Pellston Regional Airport, Pellston, Michigan, from Federal obligations.

The subject property is described as: Outlots 2 and 4 Bogardus' Second Addition to the Village of Pellston, according to the Plat thereof recorded in Liber 4 of Plats, Page 1, Emmet County Records.

This release does not constitute a commitment by the FAA to financially assist in the disposal of the subject airport property nor a determination of eligibility for grant-in-aid funding from the FAA.

Issued in Romulus, Michigan, on February 8, 2024.
Stephanie R. Swann,
Deputy Manager, Detroit Airports District Office, FAA, Great Lakes Region.

[FR Doc. 2024-02911 Filed 2-12-24; 8:45 am]

BILLING CODE 4910-13-P